DEPARTMENT OF THE TREASURY

Office of Foreign Assets Control

Notice of OFAC Sanctions Actions

AGENCY: Office of Foreign Assets Control, Department of the Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them. Additionally, OFAC is publishing an update to the identifying information of persons currently included in the Specially Designated Nationals and Blocked Persons List.

DATES: See SUPPLEMENTARY INFORMATION section.

FOR FURTHER INFORMATION CONTACT:

OFAC: Associate Director for Global Targeting, tel.: 202-622-2420; Assistant Director for Sanctions Compliance & Evaluation, tel.: 202-622-2490; Assistant Director for Licensing, tel.: 202-622-2480; Assistant Director for Regulatory Affairs, tel.: 202-622-4855; or the Department of the Treasury's Office of the General Counsel: Office of the Chief Counsel (Foreign Assets Control), tel.: 202-622-2410.

SUPPLEMENTARY INFORMATION:

Electronic Availability

The Specially Designated Nationals and Blocked Persons List (SDN List) and additional information concerning OFAC sanctions programs are available on OFAC's website (http://www.treasury.gov/ofac).

Notice of OFAC Actions

On March 6, 2018, OFAC determined that the property and interests in property subject to U.S. jurisdiction of the following persons are blocked under the relevant sanctions authority listed below.

Individuals

1. AVILA ROCHA, Maria Monserrat (Latin: ÁVILA ROCHA, María Monserrat) (a.k.a. AVILA DE LA ROCHA, Maria Monserrate; a.k.a. AVILA ROCHA, Maria Monserrate), Genaro Estrada, Sinaloa, Sinaloa 81960, Mexico; DOB 11 Feb 1960; citizen Mexico; Gender Female; I.F.E. AVRCMN60021125M800 (Mexico) (individual) [SDNTK] (Linked To: RUELAS TORRES DRUG TRAFFICKING ORGANIZATION). Designated pursuant to section 805(b)(3) of the Foreign Narcotics Kingpin Designation Act (“Kingpin Act”), 21 U.S.C. 1904(b)(3), for being directed by, or acting for or on behalf of, the RUELAS TORRES DRUG TRAFFICKING ORGANIZATION.

2. RIVERA SANDOVAL, Reyna Isabel, Genaro Estrada, Sinaloa, Sinaloa 81960, Mexico; DOB 01 Nov 1980; POB Sinaloa, Sinaloa, Mexico; citizen Mexico; Gender Female; R.F.C. RISR801101P90 (Mexico); C.U.R.P. RISR801101MSLVNY00 (Mexico) (individual) [SDNTK] (Linked To: RUELAS TORRES DRUG TRAFFICKING ORGANIZATION). Designated pursuant to section 805(b)(3) of the Kingpin Act, 21 U.S.C. 1904(b)(3), for being directed by, or acting for or on behalf of, the RUELAS TORRES DRUG TRAFFICKING ORGANIZATION.

3. RIVERA GUERRERO, Raquel, Genaro Estrada, Sinaloa, Sinaloa, Mexico; DOB 29 Aug 1987; POB Sinaloa, Sinaloa, Mexico; citizen Mexico; Gender Female; R.F.C. RIGR8708294Z0 (Mexico); C.U.R.P. RIGR870829MSLVRQ04 (Mexico) (individual) [SDNTK] (Linked To: RUELAS TORRES DRUG TRAFFICKING ORGANIZATION). Designated pursuant to section 805(b)(2) of the Kingpin Act, 21 U.S.C. 1904(b)(2), for materially assisting in, or providing financial or technological support for or to, or providing goods or services in support of, the international narcotics trafficking activities of, the RUELAS TORRES DRUG TRAFFICKING ORGANIZATION and Joel Efren RUELAS AVILA. Also designated pursuant to section 805(b)(3) of the Kingpin Act, 21 U.S.C. 1904(b)(3), for being directed by, or acting for or on behalf of, the RUELAS TORRES DRUG TRAFFICKING ORGANIZATION and Joel Efren RUELAS AVILA.

4. RUELAS AVILA, Patricia Lourdes (Latin: RUELAS ÁVILA, Patricia Lourdes), Genaro Estrada, Sinaloa, Sinaloa 81960, Mexico; DOB 07 Apr 1983; POB Sinaloa, Sinaloa, Mexico; citizen Mexico; Gender Female; R.F.C. RUAP830407MS8 (Mexico); C.U.R.P. RUAP830407MSLLVT03 (Mexico) (individual) [SDNTK] (Linked To: RUELAS TORRES DRUG TRAFFICKING ORGANIZATION). Designated pursuant to section 805(b)(3) of the Kingpin Act, 21 U.S.C. 1904(b)(3), for being directed by, or acting for or on behalf of, the RUELAS TORRES DRUG TRAFFICKING ORGANIZATION and Joel Efren RUELAS AVILA.

5. RUELAS AVILA, Trinidad (Latin: RUELAS ÁVILA, Trinidad), Genaro Estrada, Sinaloa, Sinaloa, Mexico; DOB 06 Aug 1989; POB Sinaloa, Sinaloa, Mexico; citizen Mexico; Gender Male; R.F.C. RUAT890806BA4 (Mexico); C.U.R.P. RUAT890806HSLLVR06 (Mexico) (individual) [SDNTK] (Linked To: RUELAS TORRES DRUG TRAFFICKING ORGANIZATION). Designated pursuant to section 805(b)(3) of the Kingpin Act, 21 U.S.C. 1904(b)(3), for being directed by, or acting for or on behalf of, the RUELAS TORRES DRUG TRAFFICKING ORGANIZATION and Jose Luis RUELAS AVILA.

6. RUELAS AVILA, Jose Maria (Latin: RUELAS ÁVILA, José María), Mexico; DOB 15 Aug 1977; POB Guasave, Sinaloa, Mexico; citizen Mexico; Gender Male; R.F.C. RUAM770815791 (Mexico); C.U.R.P. RUAM770815HSLLVR05 (Mexico) (individual) [SDNTK] (Linked To: RUELAS TORRES DRUG TRAFFICKING ORGANIZATION). Designated pursuant to section 805(b)(2) of the Kingpin Act, 21 U.S.C. 1904(b)(2), for materially assisting in, or providing financial or technological support for or to, or providing goods or services in support of, the international narcotics trafficking activities of, the RUELAS TORRES DRUG TRAFFICKING ORGANIZATION. Also designated pursuant to section 805(b)(3) of the Kingpin Act, 21 U.S.C. 1904(b)(3), for being directed by, or acting for or on behalf of, the RUELAS TORRES DRUG TRAFFICKING ORGANIZATION.

7. SANCHEZ MEDRANO, Cruz (Latin: SÁNCHEZ MEDRANO, Cruz) (a.k.a. “CRUZITA”), Genaro Estrada, Sinaloa, Sinaloa 81960, Mexico; DOB 01 Nov 1980; POB Sinaloa, Sinaloa, Mexico; citizen Mexico; Gender Female; R.F.C. SAMC790809JD5 (Mexico); C.U.R.P. SAMC801101MSLNDR06 (Mexico) (individual) [SDNTK] (Linked To: CRUZITA NOVEDADES; Linked To: RUELAS TORRES DRUG TRAFFICKING ORGANIZATION). Designated pursuant to section 805(b)(3) of the Kingpin Act, 21 U.S.C. 1904(b)(3), for being directed by, or acting for or on behalf of, the RUELAS TORRES DRUG TRAFFICKING ORGANIZATION.

8. SANCHEZ MEDRANO, Pedro (Latin: SÁNCHEZ MEDRANO, Pedro), Genaro Estrada, Sinaloa, Sinaloa, Mexico; DOB 05 Nov 1976; POB Los Mochis, Ahome, Sinaloa, Mexico; citizen Mexico; Gender Male; R.F.C. SAMP761105FK4 (Mexico); C.U.R.P. SAMP761105HSLNDD01 (Mexico) (individual) [SDNTK] (Linked To: RUELAS TORRES DRUG TRAFFICKING ORGANIZATION). Designated pursuant to section 805(b)(3) of the Kingpin Act, 21 U.S.C. 1904(b)(3), for being directed by, or acting for or on behalf of, the RUELAS TORRES DRUG TRAFFICKING ORGANIZATION.

Entities

1. AGRICOLA RUELAS, S.P.R. DE R.I. (a.k.a. “AGRICOLA RUELAS” SOCIEDAD DE PRODUCCION RURAL DE RESPONSABILIDAD ILIMITADA), Av. Victor C Miranda SN, Genaro Estrada Poste 112, Sinaloa, Sinaloa C.P. 81960, Mexico; Poblado Genaro Estrada, Municipio de Sinaloa, Sinaloa, Mexico; R.F.C. ARU010206T27 (Mexico); National ID No. 25RQ00000933 (Mexico); Folio Mercantil No. C 4892138 (Mexico) [SDNTK]. Designated pursuant to section 805(b)(3) of the Kingpin Act, 21 U.S.C. 1904(b)(3), for being owned, controlled, or directed by, or acting for or on behalf of, the RUELAS TORRES DRUG TRAFFICKING ORGANIZATION.

2. ALONDRA PRODUCE, S.P.R. DE R.I. (a.k.a. “ALONDRA PRODUCE”, SOCIEDAD DE PRODUCCION RURAL DE RESPONSABILIDAD ILIMITADA), Genaro Estrada, Municipio de Sinaloa, Sinaloa, Mexico; Business Registration Document # CUD: A201404010921001167 (Mexico) [SDNTK]. Designated pursuant to section 805(b)(3) of the Kingpin Act, 21 U.S.C. 1904(b)(3), for being owned, controlled, or directed by, or acting for or on behalf of, Jose Luis RUELAS AVILA.

3. COMERCIALIZADORA GAEL 4, S.A. DE C.V. (a.k.a. COMERCIALIZADORA GAEL 4, SOCIEDAD ANONIMA DE CAPITAL VARIABLE), Poblado Genaro Estrada, Sinaloa, Sinaloa, Mexico; Business Registration Document # CUD: A201510131236131441 (Mexico); Folio Mercantil No. 178794 (Mexico) [SDNTK]. Designated pursuant to section 805(b)(3) of the Kingpin Act, 21 U.S.C. 1904(b)(3), for being owned, controlled, or directed by, or acting for or on behalf of, the RUELAS TORRES DRUG TRAFFICKING ORGANIZATION.

4. CONSTRUCTORA JOEL, S.A. DE C.V., Calle 14, Poste 111, Trinidad Fuentes Ruperto, Genaro Estrada, Municipio de Sinaloa, Sinaloa, Mexico; Genaro Estrada, Sinaloa, Sinaloa, Mexico; Business Registration Document # CUD: A201309051409325760 (Mexico); Folio Mercantil No. 168964 (Mexico) [SDNTK]. Designated pursuant to section 805(b)(3) of the Kingpin Act, 21 U.S.C. 1904(b)(3), for being owned, controlled, or directed by, or acting for or on behalf of Joel Efren RUELAS AVILA.

5. CONSTRUCTORA VANIA, S.A. DE C.V., Calle 14, Poste 111, Trinidad Fuentes Ruperto, Genaro Estrada, Municipio de Sinaloa, Sinaloa, Mexico; Genaro Estrada, Sinaloa, Sinaloa, Mexico; Business Registration Document # CUD: A201309051410465765 (Mexico); Folio Mercantil No. 168954 (Mexico) [SDNTK]. Designated pursuant to section 805(b)(3) of the Kingpin Act, 21 U.S.C. 1904(b)(3), for being owned, controlled, or directed by, or acting for or on behalf of, the RUELAS TORRES DRUG TRAFFICKING ORGANIZATION and Joel Efren RUELAS AVILA.

6. CRUZITA NOVEDADES (a.k.a. NOVEDADES CRUZITA), Sinaloa, Sinaloa 81960, Mexico [SDNTK]. Designated pursuant to section 805(b)(3) of the Kingpin Act, 21 U.S.C. 1904(b)(3), for being owned, controlled, or directed by, or acting for or on behalf of, Cruz SANCHEZ MEDRANO.

7. DISPERSORA GAEL, S.A. DE C.V., Poblado Genaro Estrada, Sinaloa, Sinaloa, Mexico; Business Registration Document # CUD: A201405281136157818 (Mexico); Folio Mercantil No. 172714 (Mexico) [SDNTK]. Designated pursuant to section 805(b)(3) of the Kingpin Act, 21 U.S.C. 1904(b)(3), for being owned, controlled, or directed by, or acting for or on behalf of, the RUELAS TORRES DRUG TRAFFICKING ORGANIZATION.

8. FELIXTAPIA, S.C. DE R.L. DE C.V., Sinaloa de Leyva, Sinaloa, Mexico; Business Registration Document # CUD: A201501211805106744 (Mexico); Folio Mercantil No. 175774 (Mexico) [SDNTK]. Designated pursuant to section 805(b)(3) of the Kingpin Act, 21 U.S.C. 1904(b)(3), for being owned, controlled, or directed by, or acting for or on behalf of, Hector Librado RIVERA SANDOVAL.

Additionally, on March 6, 2018, OFAC updated the SDN List for the following persons, whose property and interests in property subject to U.S. jurisdiction continue to be blocked under the Kingpin Act.

Individuals

1. RIVERA SANDOVAL, Hector Librado (Latin: RIVERA SANDOVAL, Héctor Librado), La Playita, Sinaloa, Sinaloa, Mexico; DOB 03 Jun 1982; POB Sinaloa, Sinaloa, Mexico; nationality Mexico; Gender Male; C.U.R.P. RISH820603HSLVNC07 (Mexico); RFC RISH820603V75 (Mexico) (individual) [SDNTK] (Linked To: RUELAS TORRES DRUG TRAFFICKING ORGANIZATION).

2. RUELAS AVILA, Jose Luis (Latin: RUELAS ÁVILA, José Luis), C 14 S/N, Loc Genaro Estrada, Sinaloa, Sinaloa 81960, Mexico; DOB 11 Mar 1981; POB Sinaloa, Sinaloa, Mexico; nationality Mexico; Gender Male; R.F.C. RUAL810311933 (Mexico); C.U.R.P. RUAL810311HSLLVS02 (Mexico); I.F.E. RLAVLS81031125H800 (Mexico) (individual) [SDNTK] (Linked To: RUELAS TORRES DRUG TRAFFICKING ORGANIZATION).

3. RUELAS AVILA, Joel Efren (Latin: RUELAS ÁVILA, Joel Efren), Calle 10 Sin Numero, Localidad Genaro Estrada, Sinaloa, Mexico; DOB 20 Sep 1978; POB Guasave, Sinaloa, Mexico; nationality Mexico; Gender Male; R.F.C. RUAJ780920C10 (Mexico); C.U.R.P. RUAJ780920HSLLVL02 (Mexico) (individual) [SDNTK] (Linked To: RUELAS TORRES DRUG TRAFFICKING ORGANIZATION).

The listings for these previously designated persons now appear as follows:

Individuals

1. RIVERA SANDOVAL, Hector Librado (Latin: RIVERA SANDOVAL, Héctor Librado), La Playita, Sinaloa, Sinaloa, Mexico; DOB 03 Jun 1982; POB Sinaloa, Sinaloa, Mexico; nationality Mexico; Gender Male; C.U.R.P. RISH820603HSLVNC07 (Mexico); RFC RISH820603V75 (Mexico) (individual) [SDNTK] (Linked To: RUELAS TORRES DRUG TRAFFICKING ORGANIZATION; Linked To: FELIXTAPIA, S.C. DE R.L. DE C.V.).

2. RUELAS AVILA, Jose Luis (Latin: RUELAS ÁVILA, José Luis), C 14 S/N, Loc Genaro Estrada, Sinaloa, Sinaloa 81960, Mexico; DOB 11 Mar 1981; POB Sinaloa, Sinaloa, Mexico; nationality Mexico; Gender Male; R.F.C. RUAL810311933 (Mexico); C.U.R.P. RUAL810311HSLLVS02 (Mexico); I.F.E. RLAVLS81031125H800 (Mexico) (individual) [SDNTK] (Linked To: RUELAS TORRES DRUG TRAFFICKING ORGANIZATION; Linked To: ALONDRA PRODUCE, S.P.R. DE R.I.).

3. RUELAS AVILA, Joel Efren (Latin: RUELAS ÁVILA, Joel Efren), Calle 10 Sin Numero, Localidad Genaro Estrada, Sinaloa, Mexico; DOB 20 Sep 1978; POB Guasave, Sinaloa, Mexico; nationality Mexico; Gender Male; R.F.C. RUAJ780920C10 (Mexico); C.U.R.P. RUAJ780920HSLLVL02 (Mexico) (individual) [SDNTK] (Linked To: RUELAS TORRES DRUG TRAFFICKING ORGANIZATION; Linked To: CONSTRUCTORA JOEL, S.A. DE C.V.; Linked To: CONSTRUCTORA VANIA, S.A. DE C.V.).

Dated: March 6, 2018.
John E. Smith,
Director, Office of Foreign Assets Control.

[FR Doc. 2018-04748 Filed 3-8-18; 8:45 am]

BILLING CODE 4811-AL-P